GULF COAST ECOSYSTEM RESTORATION COUNCIL

[Docket Number: 104142017-1111-11]

Notice of Proposed Subaward Under a Council-Selected Restoration Component Award

AGENCY: Gulf Coast Ecosystem Restoration Council.

ACTION: Notice; correction.

SUMMARY: The Gulf Coast Ecosystem Restoration Council (Council) published a document in the Federal Register on March 14, 2017 to provide notice of a proposed subaward from the National Oceanic and Atmospheric Administration (NOAA) to the Gulf of Mexico Alliance (GOMA), a nonprofit organization, for the purpose of supporting the Council Monitoring and Assessment Program (CMAP) in accordance with the Council Monitoring & Assessment Program Development award as approved in the Initial Funded Priority List. The March 14, 2017 notice did not include the amount of the proposed subaward. Through this correction, the Council publishes the amount of the proposed subaward.

FOR FURTHER INFORMATION CONTACT: Please send questions by email to raams_pgmsupport@restorethegulf.gov.

SUPPLEMENTARY INFORMATION: Section 1321(t)(2)(E)(ii)(III) of the RESTORE Act (33 U.S.C. 1321(t)(2)(E)(ii)(III)) and Treasury's implementing regulation at 31 CFR 34.401(b) require that, for purposes of awards made under the Council-Selected Restoration Component, a State or Federal award recipient may make a grant or subaward to or enter into a cooperative agreement with a nongovernmental entity that equals or exceeds 10 percent of the total amount of the award provided to the State or Federal award recipient only if certain notice requirements are met. Specifically, at least 30 days before the State or Federal award recipient enters into such an agreement, the Council must publish in the Federal Register and deliver to specified Congressional Committees the name of the recipient and subrecipient; a brief description of the activity, including its purpose; and the amount of the award.

In the Federal Register notice of March 14, 2017, at 82 FR 13607, the Council provided notice of a proposed subaward from NOAA to GOMA for the purpose of supporting CMAP in accordance with the Council Monitoring & Assessment Program Development award; however, the March 14, 2017 notice inadvertently omitted the amount of the proposed subaward to GOMA. The amount of the proposed subaward from NOAA to GOMA under the Council Monitoring & Assessment Program Development award is $525,000.

Will D. Spoon,
Program Analyst, Gulf Coast Ecosystem Restoration Council.

[FR Doc. 2017-07562 Filed 4-13-17; 8:45 am]

BILLING CODE 6560-58-P